SURFACE TRANSPORTATION BOARD

[Docket No. FD 36142]

Savage Davenport Railroad Company—Lease and Operation Exemption—City of Davenport, Iowa

Savage Davenport Railroad Company (SDR), a noncarrier, has filed a verified notice of exemption under 49 CFR 1150.31 to lease from the City of Davenport, Iowa (City) and to operate a 2.8-mile line of railroad (the Line).¹ The Line extends west and south from a point about 75 feet from milepost 191.2 on a CP mainline, near Davenport, Iowa, to the City-owned Davenport Transload Facility.²

¹ In addition to leasing the Line from the City, SDR indicates that it is entering into an interchange agreement with Dakota, Minnesota and Eastern Railroad Corporation, a rail carrier subsidiary of Canadian Pacific Railway Limited (CP).

² SDR indicates that the Board approved the City's construction of the subject line in City of Davenport, Iowa—Construction & Operation Exemption—in Scott County, Iowa, FD 35237 (STB served April 6, 2011). SDR states that there are no mileposts on the subject line but that it may install mileposts at a later date.

This transaction is related to a concurrently filed verified notice of exemption in Savage Services Corporation—Continuance in Control Exemption—Savage Davenport Railroad Company, Docket No. FD 36142 (Sub-No. 1), in which Savage Services Corporation seeks Board approval to continue in control of SDR upon SDR's becoming a Class III rail carrier.

SDR certifies that its projected annual revenues as a result of this transaction will not result in the creation of a Class I or Class II rail carrier and will not exceed $5 million. SDR also states that there are no provisions or agreements limiting interchange with other carriers.

The transaction may be consummated on or after September 15, 2017, the effective date of the exemption (30 days after the verified notice of exemption was filed). If the verified notice contains false or misleading information, the exemption is void ab initio. Petitions to revoke the exemption under 49 U.S.C. 10502(d) may be filed at any time. The filing of a petition to revoke will not automatically stay the effectiveness of the exemption. Petitions for stay must be filed no later than September 8, 2017 (at least seven days before the exemption becomes effective).

An original and 10 copies of all pleadings, referring to Docket No. FD 36142, must be filed with the Surface Transportation Board, 395 E Street SW., Washington, DC 20423-0001. In addition, a copy of each pleading must be served on applicant's representative, Richard F. Riley Jr., Foley & Lardner LLP, 3000 K Street NW., Suite 600, Washington, DC 20007-5109.

According to SDR, this action is categorically excluded from environmental review under 49 CFR 1105.6(c).

Board decisions and notices are available on our website at WWW.STB.GOV.

Decided: August 29, 2017.
By the Board, Rachel D. Campbell, Director, Office of Proceedings.
Renà Laws-Byrum,
Clearance Clerk.

[FR Doc. 2017-18582 Filed 8-31-17; 8:45 am]

BILLING CODE 4915-01-P